DEPARTMENT OF TRANSPORTATION

Federal Aviation Administration

14 CFR Part 39

[Docket No. FAA-2008-0364; Directorate Identifier 2006-NM-281-AD; Amendment 39-15562; AD 2008-12-18]

RIN 2120-AA64

Airworthiness Directives; Dassault Model Falcon 2000EX Airplanes and Model Falcon 900EX Airplanes

AGENCY: Federal Aviation Administration (FAA), Department of Transportation (DOT).

ACTION: Final rule.

SUMMARY: We are adopting a new airworthiness directive (AD) for the products listed above. This AD results from mandatory continuing airworthiness information (MCAI) originated by an aviation authority of another country to identify and correct an unsafe condition on an aviation product. The MCAI describes the unsafe condition as:

During a flight test performed on an EASy aircraft, subsequently to an air data probe failure, the crew realized that the Flight path vectors and the Vertical speeds that were displayed on pilot's and co-pilot's PDU (primary display unit) were identically wrong.

A review of the EASy architecture reveals that * * * One single ADS (air data system) unflagged air data error may lead to the computation and display on both pilot's and co-pilot's display units of unnoticed and misleading flight information.

At take-off or during go-around this situation might considerably reduce flight safety.

We are issuing this AD to require actions to correct the unsafe condition on these products.

DATES: This AD becomes effective July 23, 2008.

The Director of the Federal Register approved the incorporation by reference of certain publications listed in this AD as of July 23, 2008.

ADDRESSES: You may examine the AD docket on the Internet at http://www.regulations.gov or in person at the U.S. Department of Transportation, Docket Operations, M-30, West Building Ground Floor, Room W12-140, 1200 New Jersey Avenue, SE., Washington, DC.

FOR FURTHER INFORMATION CONTACT: Tom Rodriguez, Aerospace Engineer, International Branch, ANM-116, FAA, Transport Airplane Directorate, 1601 Lind Avenue, SW., Renton, Washington 98057-3356; telephone (425) 227-1137; fax (425) 227-1149.

SUPPLEMENTARY INFORMATION:

Discussion

We issued a notice of proposed rulemaking (NPRM) to amend 14 CFR part 39 to include an AD that would apply to the specified products. That NPRM was published in the Federal Register on March 31, 2008 (73 FR 16787). That NPRM proposed to correct an unsafe condition for the specified products. The MCAI states:

During a flight test performed on an EASy aircraft, subsequently to an air data probe failure, the crew realized that the Flight path vectors and the Vertical speeds that were displayed on pilot's and co-pilot's PDU (primary display unit) were identically wrong.

A review of the EASy architecture reveals that the current wiring of Air Data System (ADS) and IRS (inertial reference system) units is not compliant with the certified safety objectives. All IRS primary inputs are wired to the same General Purpose (GP) Bus and thus basic requirements for ADS segregation are not met. One single ADS unflagged air data error may lead to the computation and display on both pilot's and co-pilot's display units of unnoticed and misleading flight information.

At take-off or during go-around this situation might considerably reduce flight safety.

This AD mandates a wiring modification of IRS [no.] 2 and a test of General Purpose bus IRS entry per application of SB-F2000EX-89 on Falcon 2000EX EASy and per application of SB-F900EX-274 on Falcon 900EX EASy.

Furthermore in order to maintain ADS parameter segregation against possible failures, this AD also requires F2000EX EASy and F900EX EASy operators to comply with the modifications made to the respective Chapter 5.40 of the Aircraft Maintenance Manuals that contain an additional periodic functional test of the IRS GP Bus I/O (input/output).

Dispatch conditions under MMEL (master minimum equipment list) in case of an IRS2 failure are modified after implementation of the wiring change.

The corrective actions involve checking the integrity of the GP bus and IRS2, and repairing them as applicable. You may obtain further information by examining the MCAI in the AD docket.

Comments

We gave the public the opportunity to participate in developing this AD. We received no comments on the NPRM or on the determination of the cost to the public.

Conclusion

We reviewed the available data and determined that air safety and the public interest require adopting the AD as proposed.

Differences Between This AD and the MCAI or Service Information

We have reviewed the MCAI and related service information and, in general, agree with their substance. But we might have found it necessary to use different words from those in the MCAI to ensure the AD is clear for U.S. operators and is enforceable. In making these changes, we do not intend to differ substantively from the information provided in the MCAI and related service information.

We might also have required different actions in this AD from those in the MCAI in order to follow our FAA policies. Any such differences are highlighted in a NOTE within the AD.

Costs of Compliance

We estimate that this AD will affect about 62 products of U.S. registry. We also estimate that it will take about 3 work-hours per product to comply with the basic requirements of this AD. The average labor rate is $80 per work-hour. Required parts will cost a negligible amount per product. Where the service information lists required parts costs that are covered under warranty, we have assumed that there will be no charge for these parts. As we do not control warranty coverage for affected parties, some parties may incur costs higher than estimated here. Based on these figures, we estimate the cost of this AD to the U.S. operators to be $14,880, or $240 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify this AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this AD and placed it in the AD docket.

Examining the AD Docket

You may examine the AD docket on the Internet at http://www.regulations.gov; or in person at the Docket Operations office between 9 a.m. and 5 p.m., Monday through Friday, except Federal holidays. The AD docket contains the NPRM, the regulatory evaluation, any comments received, and other information. The street address for the Docket Operations office (telephone (800) 647-5527) is in the ADDRESSES section. Comments will be available in the AD docket shortly after receipt.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2008-12-18 Dassault Aviation: Amendment 39-15562. Docket No. FAA-2008-0364; Directorate Identifier 2006-NM-281-AD.

Effective Date

(a) This airworthiness directive (AD) becomes effective July 23, 2008.

Affected ADs

(b) None.

Applicability

(c) This AD applies to Dassault Model Falcon 2000EX airplanes, serial number (S/N) 6, and S/N 28 and subsequent; and Model Falcon 900EX airplanes, S/N 97, and S/N 120 and subsequent; certificated in any category.

Subject

(d) Air Transport Association (ATA) of America Code 34: Navigation.

Reason

(e) The mandatory continuing airworthiness information (MCAI) states:

During a flight test performed on an EASy aircraft, subsequently to an air data probe failure, the crew realized that the Flight path vectors and the Vertical speeds that were displayed on pilot's and co-pilot's PDU (primary display unit) were identically wrong.

A review of the EASy architecture reveals that the current wiring of Air Data System (ADS) and IRS (inertial reference system) units is not compliant with the certified safety objectives. All IRS primary inputs are wired to the same General Purpose (GP) Bus and thus basic requirements for ADS segregation are not met. One single ADS unflagged air data error may lead to the computation and display on both pilot's and co-pilot's display units of unnoticed and misleading flight information.

At take-off or during go-around this situation might considerably reduce flight safety.

This AD mandates a wiring modification of IRS [no.] 2 and a test of General Purpose bus IRS entry per application of SB-F2000EX-89 on Falcon 2000EX EASy and per application of SB-F900EX-274 on Falcon 900EX EASy.

Furthermore in order to maintain ADS parameter segregation against possible failures, this AD also requires F2000EX EASy and F900EX EASy operators to comply with the modifications made to the respective Chapter 5.40 of the Aircraft Maintenance Manuals that contain an additional periodic functional test of the IRS GP Bus I/O (input/output).

Dispatch conditions under MMEL (master minimum equipment list) in case of an IRS2 failure are modified after implementation of the wiring change.

The corrective actions involve checking the integrity of the GP bus and IRS2, and repairing them as applicable.

Actions and Compliance

(f) Unless already done, do the following actions.

(1) For Model Falcon 2000EX airplanes without Dassault Modification M2758 and Model Falcon 900EX airplanes without Dassault Modification M5143 in the applicability range: Within 3 months after the effective date of this AD, do the IRS2 wiring modification and test the GP (general purpose) bus IRS entry. Do all actions in accordance with the Accomplishment Instructions of Dassault Service Bulletin F2000EX-89, dated March 17, 2006; or Dassault Service Bulletin F900EX-274, dated March 17, 2006; as applicable. Repeat the test at intervals not to exceed 5,000 flight hours. If the GP bus IRS entry fails any test, before further flight, do all applicable corrective actions in accordance with the procedures in Section 34-209, dated March 2007, of the Dassault Falcon 900EX EASy/900DX Maintenance Manual; or Section 34-209, dated May 2007, of the Dassault Falcon 2000EX EASy Maintenance Manual; as applicable.

(2) For Model Falcon 2000EX airplanes with Dassault Modification M2758 and Model Falcon 900EX airplanes with Dassault Modification M5143 in the applicability range: Within 5,000 flight hours after the date of issuance of the original French standard airworthiness certificate or the date of issuance of the original French export certificate of airworthiness, or within 3 months after the effective date of this AD, whichever occurs later, do a test of the GP bus IRS entry in accordance with the Accomplishment Instructions of Dassault Service Bulletin F2000EX-89, dated March 17, 2006; or Dassault Service Bulletin F900EX-274, dated March 17, 2006; as applicable. Repeat the test at intervals not to exceed 5,000 flight hours. If the GP bus IRS entry fails any test, before further flight, do the corrective actions in accordance with the procedures in Section 34-209, dated March 2007, of the Dassault Falcon 900EX EASy/900DX Maintenance Manual; or Section 34-209, dated May 2007, of the Dassault Falcon 2000EX EASy Maintenance Manual; as applicable.

FAA AD Differences

Note: This AD differs from the MCAI and/ or service information as follows:

(1) Where the MCAI specifies to do a test of the GP bus IRS entry in accordance with Chapter 5.40 of the applicable Dassault Maintenance Manual and does not specify a corrective action, we require those corrective actions to be done in accordance with Section 34-209, dated March 2007, of the Dassault Falcon 900EX EASy/900DX Maintenance Manual; or Section 34-209, dated May 2007, of the Dassault Falcon 2000EX EASy Maintenance Manual; as applicable.

(2) The MCAI specified to revise the applicable Dassault MMEL by incorporating Dassault Temporary Change 4, dated June 15, 2006, to the Dassault Falcon 2000EX EASy MMEL (for Model F2000EX EASy airplanes); and Dassault Temporary Change 3, dated June 15, 2006, to the Dassault Falcon 900EX EASy MMEL (for Model F900EX EASy airplanes); as applicable. However, the FAA-approved MMEL (which is required to be used by operators) has been revised to include the information specified in the Dassault temporary changes. Therefore, we have not included a requirement for this revision in this AD.

Other FAA AD Provisions

(g) The following provisions also apply to this AD:

(1) Alternative Methods of Compliance (AMOCs): The Manager, International Branch, ANM-116, FAA, Transport Airplane Directorate, has the authority to approve AMOCs for this AD, if requested using the procedures found in 14 CFR 39.19. Send information to ATTN: Tom Rodriguez, Aerospace Engineer, International Branch, ANM-116, FAA, Transport Airplane Directorate, 1601 Lind Avenue, SW., Renton, Washington 98057-3356; telephone (425) 227-1137; fax (425) 227-1149. Before using any approved AMOC on any airplane to which the AMOC applies, notify your appropriate principal inspector (PI) in the FAA Flight Standards District Office (FSDO), or lacking a PI, your local FSDO.

(2) Airworthy Product: For any requirement in this AD to obtain corrective actions from a manufacturer or other source, use these actions if they are FAA-approved. Corrective actions are considered FAA-approved if they are approved by the State of Design Authority (or their delegated agent). You are required to assure the product is airworthy before it is returned to service.

(3) Reporting Requirements: For any reporting requirement in this AD, under the provisions of the Paperwork Reduction Act, the Office of Management and Budget (OMB) has approved the information collection requirements and has assigned OMB Control Number 2120-0056.

Related Information

(h) Refer to MCAI European Aviation Safety Agency (EASA) Airworthiness Directive 2006-0157, dated June 7, 2006; Section 34-209, dated March 2007, of the Dassault Falcon 900EX EASY/900DX Maintenance Manual; Section 34-209, dated May 2007, of the Dassault Falcon 2000EX EASy Maintenance Manual; and Dassault Service Bulletins F2000EX-89 and F900EX-274, both dated March 17, 2006; for related information.

Material Incorporated by Reference

(i) You must use the service information specified in Table 1 of this AD to do the actions required by this AD, as applicable, unless the AD specifies otherwise.

(1) The Director of the Federal Register approved the incorporation by reference of this service information under 5 U.S.C. 552(a) and 1 CFR part 51.

(2) For service information identified in this AD, contact Dassault Falcon Jet, P.O. Box 2000, South Hackensack, New Jersey 07606.

(3) You may review copies at the FAA, Transport Airplane Directorate, 1601 Lind Avenue, SW., Renton, Washington; or at the National Archives and Records Administration (NARA). For information on the availability of this material at NARA, call (202) 741-6030, or go to: http://www.archives.gov/federal-register/cfr/ibr-locations.html.

Table 1.—Material Incorporated by Reference
Service information | Date
Dassault Falcon 2000EX EASy Maintenance Manual, Section 34-209 | May 2007.
Dassault Falcon 900EX EASY/900DX Maintenance Manual, Section 34-209 | March 2007.
Dassault Service Bulletin F2000EX-89 | March 17, 2006.
Dassault Service Bulletin F900EX-274 | March 17, 2006.

Issued in Renton, Washington, on June 5, 2008.
Michael J. Kaszycki,
Acting Manager, Transport Airplane Directorate, Aircraft Certification Service.

[FR Doc. E8-13275 Filed 6-17-08; 8:45 am]

BILLING CODE 4910-13-P